ENVIRONMENTAL PROTECTION AGENCY

[FRL-8262-2]

Science Advisory Board Staff Office Notification of Public Meetings Teleconferences) of the Science Advisory Board Hypoxia Advisory Panel

AGENCY: Environmental Protection Agency (EPA).

ACTION: Notice.

SUMMARY: The EPA's Science Advisory Board (SAB) Staff Office is announcing four public teleconferences of the SAB Hypoxia Advisory Panel to discuss preparation of a Draft Advisory on the science concerning hypoxia in the Gulf of Mexico.

DATES: The dates and times for the teleconferences are:

(1) SAB Hypoxia Advisory Panel Subgroup 1: Characterization of the Causes of Hypoxia—January 26, 2007 from 9 a.m. to 12 p.m. Eastern Standard Time;

(2) SAB Hypoxia Advisory Panel Subgroup 2: Characterization of Nutrient Sources, Fate, and Transport—January 25, 2007 from 10 a.m. to 1 p.m. Eastern Standard Time;

(3) SAB Hypoxia Advisory Panel Subgroup 3: Scientific Basis for Goals and Management Options—February 20, 2007 from 2 to 4 p.m. Eastern Standard Time; and

(4) SAB Hypoxia Advisory Panel: February 12, 2007 from 9 a.m. to 12 p.m. Eastern Standard Time.

Location: The teleconferences will be conducted by phone only.

FOR FURTHER INFORMATION CONTACT: Members of the public who wish to obtain the teleconference call-in numbers and access codes to participate in the teleconferences may contact the following individuals. (1) For the SAB Hypoxia Advisory Panel Subgroup 1's teleconference on January 26, 2007, contact Dr. Thomas Armitage, Designated Federal Officer (DFO), by telephone at (202) 343-9995, or e-mail at armitage.thomas@epa.gov. (2) For the SAB Hypoxia Advisory Panel Subgroup 2's teleconference on January 25, 2007, contact Mr. David Wangsness, DFO, by telephone at (202) 343-9975, or e-mail at wangsness.david@epa.gov. (3) For the Hypoxia Advisory Panel's teleconference on February 12, 2007 and Hypoxia Advisory Panel Subgroup 3's teleconference on February 20, 2007, contact Dr. Holly Stallworth, DFO, by telephone at (202) 343-9867, or e-mail at stallworth.holly@epa.gov. General information about the SAB, as well as any updates concerning the teleconferences announced in this notice, may be found on the SAB Web site at: http://www.epa.gov/sab.

SUPPLEMENTARY INFORMATION: Pursuant to the Federal Advisory Committee Act, Public Law 92-463, notice is hereby given that the SAB Hypoxia Advisory Panel will hold public meetings to continue its discussion and prepare a draft report that evaluates the state of the science regarding hypoxia in the Northern Gulf of Mexico. The SAB was established by 42 U.S.C. 4365 to provide independent scientific and technical advice to the Administrator on the technical basis for Agency positions and regulations. The SAB is a Federal Advisory Committee chartered under the Federal Advisory Committee Act (FACA), as amended, 5 U.S.C., App. The SAB will comply with the provisions of FACA and all appropriate SAB Staff Office procedural policies.

Background: EPA participates with other Federal agencies, states and tribes in the Mississippi River/Gulf of Mexico Watershed Nutrient Task Force. In 2001, the Task Force released the Action Plan for Reducing, Mitigating and Controlling Hypoxia in the Northern Gulf of Mexico (or Action Plan available at http://www.epa.gov/msbasin/taskforce/actionplan.htm). The Action Plan was informed by the science described in An Integrated Assessment of Hypoxia in the Northern Gulf of Mexico (or Integrated Assessment available at http://oceanservice.noaa.gov/products/hypox_final.pdf) developed by the National Science and Technology Council, Committee on Environment and Natural Resources. Six technical reports provided the scientific foundation for the Integrated Assessment and are available at http://oceanservice.noaa.gov/products/pubs_hypox.html#fia. The aforementioned documents provide a comprehensive summary of the state-of-the-science for the Gulf of Mexico hypoxic zone through about the year 2000.

EPA's Office of Water has requested that the SAB develop a report that evaluates the state-of-the-science regarding the causes and extent of hypoxia in the Gulf of Mexico, as well as the scientific basis of possible management options in the Mississippi River Basin. The SAB is asked to focus on scientific advances since 2000 that may have increased scientific understanding and control options.

In response to EPA's request, the SAB Staff Office formed the SAB Hypoxia Advisory Panel. Background on the Panel formation process was provided in a Federal Register notice published on February 17, 2006 (71 FR 8578-8580). The SAB Hypoxia Advisory Panel met on September 6-7, 2006 to plan its work and organized itself into three subgroups listed above. The SAB Hypoxia Advisory Panel also met on December 6-8, 2006. Background for the first meeting of the Hypoxia Advisory Panel was provided in a Federal Register published in 71 FR 45543-45544; and background for the second meeting was provided in 71 FR 66329-66330. The three subgroups of the Panel have held multiple public teleconferences to begin developing the Panel's report. Background information for the subgroup teleconferences was provided in Federal Register notices published on September 25, 2006 (71 FR 55786-55787) and October 6, 2006 (71 FR 59107). Information about the SAB Hypoxia Advisory Panel is available on the SAB Web Site at: http://www.epa.gov/sab.

Availability of Meeting Materials: Materials in support of this meeting will be placed on the SAB Web Site http://www.epa.gov/sab in advance of the meeting.

Procedures for Providing Public Input: Interested members of the public may submit relevant written or oral information for the SAB to consider during the advisory process.

Oral Statements: In general, individuals or groups requesting an oral presentation at a public meeting will be limited to five minutes per speaker, with no more than a total of one hour for all speakers. Interested parties should contact the appropriate Designated Federal Officer at the contact information noted above no later two weeks prior to each teleconference to be placed on the public speaker list. Written Statements: Written statements should be received in the SAB Staff Office no later than two weeks prior to the teleconference or meeting so that the information may be available to the SAB for their consideration prior to this meeting. Written statements should be supplied to the DFO in the following formats: one hard copy with original signature, and one electronic copy via e-mail to stallworth.holly@epa.gov (acceptable file format: Adobe Acrobat PDF, WordPerfect, MS Word, MS PowerPoint, or Rich Text files in IBM-PC/Windows 98/2000/XP format).

Meeting Access: For information on access or services for individuals with disabilities, please contact Dr. Stallworth at (202) 343-9867 or stallworth.holly@epa.gov. To request accommodation of a disability, please contact Dr. Stallworth, preferably at least 10 days prior to the meeting to give EPA as much time as possible to process your request.

Dated: December 20, 2006.
Vanessa T. Vu,
Director, EPA Science Advisory Board Staff Office.

[FR Doc. E6-22141 Filed 12-26-06; 8:45 am]

BILLING CODE 6560-50-P